DEPARTMENT OF HOMELAND SECURITY

Coast Guard

33 CFR Part 117

[Docket No. USCG-2022-0222]

RIN 1625-AA09

Drawbridge Operation Regulation; Okeechobee Waterway, Stuart, FL

AGENCY: Coast Guard, DHS.

ACTION: Supplemental notification of inquiry, request for comments.

SUMMARY: The Coast Guard is seeking information and comments on proposing a change to the drawbridge operating regulations for the Florida East Coast (FEC) Railroad Bridge, mile 7.4, and the SR 707 (Dixie Hwy) Bridge, mile 7.5, across the Okeechobee Waterway (OWW), at Stuart, Florida. In anticipation of passenger rail service across the FEC Railroad Bridge, the Coast Guard recognizes a change to the drawbridge operating schedules may be necessary to meet the reasonable needs of the maritime community and railway traffic. We invite your comments on this proposed rulemaking.

DATES: Comments and related material must reach the Coast Guard on or before July 25, 2022.

ADDRESSES: You may submit comments identified by docket number USCG-2022-0222 using Federal Decision Making Portal at https://www.regulations.gov.

See the “Public Participation and Request for Comments” portion of the SUPPLEMENTARY INFORMATION section below for instructions on submitting comments.

FOR FURTHER INFORMATION CONTACT: If you have questions on this notice, call or email Ms. Jennifer Zercher, Bridge Management Specialist, Seventh Coast Guard District, telephone 305-415-6740, email Jennifer.N.Zercher@uscg.mil.

SUPPLEMENTARY INFORMATION:

I. Table of Abbreviations

CFR Code of Federal Regulations

DHS Department of Homeland Security

E.O. Executive Order

FR Federal Register

§ Section Symbol

U.S.C. United States Code

FEC Florida East Coast

SR State Route

WAMS Waterways Analysis and Management System

OWW Okeechobee Waterway

HWY Highway

NOI Notification of Inquiry

II. Background, Purpose and Purpose

On May 3, 2022, the Coast Guard published a notification of inquiry (NOI) in the Federal Register (87 FR 26145) to solicit public comments on proposing a change to the drawbridge operating regulations for the Florida East Coast (FEC) Railroad Bridge, mile 7.4, and the SR 707 (Dixie Hwy) Bridge, mile 7.5, across the Okeechobee Waterway (OWW), at Stuart, Florida. Comments and related material were to reach the Coast Guard on or before July 5, 2022. As of May 27, 2022, 16 comments were received. These comments will be addressed with the Supplemental NOI comments.

On May 26, 2022, the Honorable Brian Mast requested the NOI be “recalled, rewritten, and republished” based on concerns the NOI failed to address all recommendations included in the 2018 Waterways Analysis and Management System (WAMS) study. The Coast Guard will publish an ex parte communications memorandum via the Federal Register using docket number USCG-2022-0222.

This Supplemental NOI is being provided to clarify the Coast Guard's intent in gathering information under this NOI. The Coast Guard is seeking information regarding usage and equitable access to the waterway under the FEC Railroad Bridge, mile 7.4, and the SR 707 (Dixie Hwy) Bridge, mile 7.5, across the OWW, at Stuart, Florida. For drawbridge operating regulations, the Coast Guard interprets “equitable” usage as access to the waterway which meets the reasonable needs of navigation while balancing the needs of competing modes of transportation.

III. Discussion on Comments and Changes

As noted above, a request was made to recall, rewrite, and republish the NOI based on an apparent lack of objectivity regarding the Coast Guard's intent as to mariners' access to the waterway. The Coast Guard has updated the summary and revised question six of the original NOI to avoid perceived bias by the Coast Guard. A Supplemental NOI will be published in the Federal Register.

IV. Information Requested

To aid us in further developing a proposed rule, we seek responses from waterway users to the following questions:

(1) Do you currently transit through the FEC Railroad Bridge crossing the Okeechobee Waterway, mile 7.4, at Stuart, Florida?

(2) How often do you transit this waterway?

(3) If railway traffic impedes your navigation of this area, how long are you normally delayed?

(4) How would you propose to regulate the balance of railway and maritime traffic in this area?

(5) What challenges have you experienced when transiting this area due to these bridges and/or railway activity?

(6) At what frequency and duration should the drawbridge openings occur in order to meet the needs of navigation?

(7) Should the SR 707 (Dixie Hwy) Bridge opening schedule mirror the operating schedule of the FEC Railroad Bridge?

V. Public Participation and Request for Comments

We encourage you to submit comments in response to this notice of inquiry through the Federal Decision Making Portal at https://www.regulations.gov. To do so, go to https://www.regulations.gov, type USCG-2022-0222 in the search box and click “Search.” Next, look for this document in the Search Results column, and click on it. Then click on the Comment option. In your submission, please include the docket number for this notice of inquiry and provide a reason for each suggestion or recommendation. If your material cannot be submitted using https://www.regulations.gov contact the person in the FOR FURTHER INFORMATION CONTACT section of this document for alternate instructions.

To view documents mentioned in this proposed rule as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive. Additionally, if you go to the online docket and sign up for email alerts, you will be notified when comments are posted or a final rule is published.

We accept anonymous comments. Comments we post to https://www.regulations.gov will include any personal information you have provided. For more about privacy and submissions in response to this document, see DHS's eRulemaking System of Records notice (85 FR 14226, March 11, 2020).

We may hold a public meeting, if necessary, to receive oral comments on this Notice of Inquiry and will announce the date, time, and location in a separate document published in the Federal Register. If you signed up for docket email alerts mentioned in the paragraph above, you will receive an email notice when the public meeting notice is published and placed in the docket.

This document is issued under authority of 5 U.S.C. 552 (a) and 33 U.S.C. 499.

Dated: June 6, 2022.
Jeffrey K. Randall,
Captain, U.S. Coast Guard, Acting Commander, Seventh Coast Guard District.

[FR Doc. 2022-12509 Filed 6-9-22; 8:45 am]

BILLING CODE 9110-04-P